DEPARTMENT OF COMMERCE

International Trade Administration

[A-580-911]

Thermal Paper From the Republic of Korea: Final Affirmative Determination of Sales at Less Than Fair Value and Final Affirmative Determination of Critical Circumstances

AGENCY: Enforcement and Compliance, International Trade Administration, Department of Commerce.

SUMMARY: The Department of Commerce (Commerce) determines that thermal paper from the Republic of Korea (Korea) is being, or is likely to be, sold in the United States at less than fair value (LTFV) for the period of investigation, October 1, 2019, through September 30, 2020.

DATES: Applicable September 30, 2021.

FOR FURTHER INFORMATION CONTACT: Kristen Ju or Aleksandras Nakutis, AD/CVD Operations, Office IV, Enforcement and Compliance, International Trade Administration, U.S. Department of Commerce, 1401 Constitution Avenue NW, Washington, DC 20230; telephone: (202) 482-3699 or (202) 482-3147, respectively.

SUPPLEMENTARY INFORMATION:

Background

On May 12, 2021, Commerce published in the Federal Register the preliminary affirmative determination in the LTFV investigation of thermal paper from Korea, in which it postponed the final determination until September 24, 2021.¹ In response to Commerce's invitation to comment on the Preliminary Determination, certain interested parties filed case and rebuttal briefs. A summary of the events that occurred since Commerce published the Preliminary Determination may be found in the Issues and Decision Memorandum.²

¹ See Thermal Paper from the Republic of Korea: Preliminary Affirmative Determination of Sales at Less Than Fair Value, Preliminary Affirmative Determination of Critical Circumstances, Postponement of Final Determination, and Extension of Provisional Measures, 86 FR 26007 (May 12, 2021) (Preliminary Determination), and accompanying Preliminary Decision Memorandum.

² See Memorandum, “Issues and Decision Memorandum for the Final Affirmative Determination of Sales at Less Than Fair Value in the Antidumping Duty Investigation of Thermal Paper from the Republic of Korea,” dated concurrently with, and hereby adopted by, this notice (Issues and Decision Memorandum).

Scope of the Investigation

The product covered by this investigation is thermal paper from Korea. For a complete description of the scope of this investigation, see Appendix I.

Scope Comments

On May 5, 2021, Commerce issued the Preliminary Scope Decision Memorandum.³ We received scope comments from interested parties, which we addressed in the Final Scope Decision Memorandum.⁴ Commerce did not modify the scope of this investigation since the Preliminary Determination.

³ See Memorandum, “Thermal Paper from Germany, Japan, the Republic of Korea, and Spain: Preliminary Scope Decision,” dated May 5, 2021 (Preliminary Scope Decision Memorandum).

⁴ See Memorandum, “Thermal Paper from Germany, Japan, the Republic of Korea, and Spain: Final Decision on General Scope Issues,” dated concurrently with, and hereby adopted by, this notice (Final Scope Decision Memorandum).

Analysis of Comments Received

We addressed all of the issues that were raised by interested parties in their case and rebuttal briefs in the Issues and Decision Memorandum. A list of the sections in the Issues and Decision Memorandum is in Appendix II of this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn.

Verification

Commerce was unable to conduct on-site verification of the information relied upon in making its final determination in the investigation. However, we took additional steps in lieu of an on-site verification to verify the information relied upon in making this final determination, in accordance with section 782(i) of the Tariff Act of 1930, as amended (the Act).⁵

⁵ See In-Lieu of On-Site Verification Questionnaire, dated June 15, 2021; see also Reissuance of Item 12d of the In-Lieu of On-Site Verification Questionnaire, dated June 17, 2021.

Changes Since the Preliminary Determination

Based on our analysis of the comments received, we made certain changes to our calculation of Hansol Paper Company (Hansol Paper)'s dumping margin. For a discussion of these changes, see the Issues and Decision Memorandum.

Final Affirmative Determination of Critical Circumstances

Consistent with the Preliminary Determination, Commerce continues to determine that critical circumstances exist with respect to Hansol Paper and all other companies in Korea within the meaning of section 733(e) of the Act and 19 CFR 351.206. For a further discussion of our critical circumstances analysis, see Issues and Decision Memorandum.

All-Others Rate

Section 735(c)(5)(A) of the Act provides that the estimated weighted-average dumping margin for all other producers and exporters not individually investigated shall be equal to the weighted average of the estimated weighted-average dumping margins established for exporters and producers individually investigated, excluding dumping margins that are zero, de minimis, or determined entirely under section 776 of the Act (facts available). Pursuant to section 735(c)(5)(B) of the Act, if the estimated weighted-average dumping margins established for all of the exporters and producers individually examined are zero, de minimis or determined based entirely on facts available, Commerce may use any reasonable method to establish the estimated weighted-average dumping margin for all other producers or exporters not individually investigated.

The final dumping margin that we calculated for the sole mandatory respondent, Hansol Paper, is not zero, de minimis, or determined entirely under section 776 of the Act. Therefore, we assigned the weighted-average dumping margin that we calculated for Hansol Paper to all other companies in Korea which we did not individually investigate.

Final Determination

Pursuant to section 735 of the Act, the final estimated weighted-average dumping margins are as follows:

Exporter/producer | Estimated weighted- average dumping margin (percent)
Hansol Paper Company | 6.19
All Others | 6.19

Disclosure

We intend to disclose to parties to the proceeding the calculations that we performed in this final determination within five days after the date of public announcement of the determination, in accordance with 19 CFR 351.224(b).

Continuation of Suspension of Liquidation

Section 735(c)(4) of the Act provides that if there is an affirmative determination of critical circumstances, any suspension of liquidation shall apply to unliquidated entries of subject merchandise entered, or withdrawn from warehouse, for consumption on or after the later of: (a) The date which is 90 days before the date on which the suspension of liquidation was first ordered; or (b) the date on which the notice of initiation of the investigation was published in the Federal Register. As noted above, Commerce has continued to find that critical circumstances exist for imports of subject merchandise produced and/or exported by Hansol Paper and all other producers and exporters in Korea. Therefore, in accordance with section 735(c)(4) of the Act, suspension of liquidation shall continue to apply to unliquidated entries of subject merchandise produced and/or exported by Hansol Paper and all other producers and exporters in Korea that were entered, or withdrawn from warehouse, for consumption on or after the date which is 90 days before the date of publication of the Preliminary Determination in the Federal Register. Consequently, in accordance with section 735(c)(1)(B) of the Act, Commerce will instruct U.S. Customs and Border Protection (CBP) to continue to suspend liquidation of all appropriate entries of thermal paper from Korea, as described in Appendix I of this notice, which were entered, or withdrawn from warehouse, for consumption on or after February 11, 2021, which is 90 days before the date of publication in the Federal Register of the affirmative Preliminary Determination.

Pursuant to section 735(c)(1)(B)(ii) of the Act and 19 CFR 351.210(d), we will instruct CBP to require a cash deposit for such entries of merchandise equal to the following amounts: (1) The cash deposit rate for Hansol Paper is equal to the company-specific estimated weighted-average dumping margin listed for Hansol Paper in the table in the “Final Determination” section of this notice; (2) if the exporter is not identified in the table in the “Final Determination” section of this notice, but the producer is, then the cash deposit rate will be equal to the company-specific estimated weighted-average dumping margin for the producer of the subject merchandise; and (3) the cash deposit rate for all other producers and exporters in Korea is equal to the all-others estimated weighted-average dumping margin listed in the table in the “Final Determination” section of this notice.

These suspension of liquidation instructions will remain in effect until further notice.

International Trade Commission Notification

In accordance with section 735(d) of the Act, we will notify the International Trade Commission (ITC) of this final affirmative determination of sales at LTFV. Because Commerce's final determination is affirmative, in accordance with section 735(b)(2) of the Act, the ITC will make its final determination as to whether the domestic industry in the United States is materially injured, or threatened with material injury, by reason of imports or sales (or the likelihood of sales) for importation of thermal paper from Korea no later than 45 days after this final determination. If the ITC determines that such injury does not exist, this proceeding will be terminated, all cash deposits posted will be refunded, and suspension of liquidation will be lifted. If the ITC determines that such injury does exist, Commerce will issue an antidumping duty order directing CBP to assess, upon further instruction from Commerce, antidumping duties on all imports of the subject merchandise entered, or withdrawn from warehouse, for consumption on or after the effective date of the suspension of liquidation, as discussed above in the “Continuation of Suspension of Liquidation” section of this notice.

Notification Regarding Administrative Protective Order

This notice will serve as a final reminder to the parties subject to an administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This determination and this notice are issued and published in accordance with sections 735(d) and 777(i)(1) of the Act, and 19 CFR 351.210(c).

Dated: September 24, 2021.
Christian Marsh,
Acting Assistant Secretary for Enforcement and Compliance.

Appendix I

Scope of the Investigation

The scope of this investigation covers thermal paper in the form of “jumbo rolls” and certain “converted rolls.” The scope covers jumbo rolls and converted rolls of thermal paper with or without a base coat (typically made of clay, latex, and/or plastic pigments, and/or like materials) on one or both sides; with thermal active coating(s) (typically made of sensitizer, dye, and co-reactant, and/or like materials) on one or both sides; with or without a top coat (typically made of pigments, polyvinyl alcohol, and/or like materials), and without an adhesive backing. Jumbo rolls are defined as rolls with an actual width of 4.5 inches or more, an actual weight of 65 pounds or more, and an actual diameter of 20 inches or more (jumbo rolls). All jumbo rolls are included in the scope regardless of the basis weight of the paper. Also included in the scope are “converted rolls” with an actual width of less than 4.5 inches, and with an actual basis weight of 70 grams per square meter (gsm) or less.

The scope of this investigation covers thermal paper that is converted into rolls with an actual width of less than 4.5 inches and with an actual basis weight of 70 gsm or less in third countries from jumbo rolls produced in the subject countries.

The merchandise subject to this investigation may be classified in the Harmonized Tariff Schedule of the United States (HTSUS) under subheadings 4811.90.8030 and 4811.90.9030. Although HTSUS subheadings are provided for convenience and customs purposes, the written description of the scope of this investigation is dispositive.

Appendix II

List of Sections in the Issues and Decision Memorandum

I. Summary

II. Background

III. Changes Since the Preliminary Determination

IV. Scope of the Investigation

V. Discussion of the Issues

Comment 1: Whether Critical Circumstances Exist

Comment 2: Whether Commerce Should Revise its Cost Adjustment Accounting for Affiliated Party Purchases

Comment 3: Whether To Grant a Constructed Export Price (CEP) Offset

VI. Recommendation

[FR Doc. 2021-21303 Filed 9-29-21; 8:45 am]

BILLING CODE 3510-DS-P